ENVIRONMENTAL PROTECTION AGENCY

40 CFR Parts 52 and 70

[EPA-R07-OAR-2021-0266; FRL-10024-99-Region 7]

Air Plan Approval; Iowa; State Implementation Plan and State Plans for Designated Facilities and Pollutants

AGENCY: Environmental Protection Agency (EPA).

ACTION: Final rule.

SUMMARY: The Environmental Protection Agency (EPA) is taking final action to approve revisions to the Iowa State Implementation Plan (SIP) and is also approving revisions to the Iowa Operating Permit Program. The revisions include updating definitions, regulatory references, requiring facilities to submit electronic emissions inventory information under the state's Title V permitting program, and updating references for the most recent federally approved minimum specifications and quality assurance procedures for performance evaluations of continuous monitoring systems. EPA is also approving previous revisions to the Operating Permit Program that allow for electronic document submission that meet EPA's requirements. These revisions will not impact air quality and will ensure consistency between the state and Federally approved rules.

DATES: This final rule is effective on July 26, 2021.

ADDRESSES: The EPA has established a docket for this action under Docket ID No. EPA-R07-OAR-2021-0266. All documents in the docket are listed on the https://www.regulations.gov website. Although listed in the index, some information is not publicly available, i.e., CBI or other information whose disclosure is restricted by statute. Certain other material, such as copyrighted material, is not placed on the internet and will be publicly available only in hard copy form. Publicly available docket materials are available through https://www.regulations.gov or please contact the person identified in the FOR FURTHER INFORMATION CONTACT section for additional information.

FOR FURTHER INFORMATION CONTACT: Stephen Krabbe, Environmental Protection Agency, Region 7 Office, Air Quality and Planning Branch, 11201 Renner Boulevard, Lenexa, Kansas 66219; telephone number: (913) 551-7991 or by email at krabbe.stephen@epa.gov.

SUPPLEMENTARY INFORMATION: Throughout this document “we,” “us,” and “our” refer to the EPA.

Table of Contents

I. What is being addressed in this document?

II. Have the requirements for approval of a SIP revision been met?

III. What action is the EPA taking?

IV. Incorporation by Reference

V. Statutory and Executive Order Reviews

I. What is being addressed in this document?

EPA is approving a submission from the State of Iowa to revise its SIP and the Operating Permits Program. On August 12, 2020, the Iowa Department of Natural Resources (IDNR) submitted a request to revise the SIP to incorporate recent changes to Iowa Administrative Code, including provisions relating to electronic submittal of information to IDNR that were revised in previous state rulemakings. The following chapters are impacted:

• Chapter 20, “Scope of Title—Definitions;”

• Chapter 22, “Controlling Pollution;”

• Chapter 23, “Emission Standards for Contaminants;”

• Chapter 25, “Measurement of Emissions;” and

• Chapter 33, “Special Regulations and Construction Permit Requirements for Major Stationary Sources—Prevention of Significant Deterioration (PSD) of Air Quality.”

The revision includes a request for EPA to approve references in Chapter 22 to allow for electronic submittal of air quality permit applications, streamlined alternatives to traditional applications, such as registrations, notifications, and template applications, construction permit applications, acid rain permit applications, notifications, emissions inventory, certifications, determination requests, fees, forms, and payments.

The revision includes the new definitions of “electronic format”, “electronic submittal”, and “electronic submittal format”. The revisions also update the construction permit application provisions to specify the types of submittals that may be included in an electronic submittal option, updates methods and procedures for stack sampling and associated analytical methods, updates the definition of “volatile organic compounds” for prevention of significant deterioration (PSD) and updates the applicability of the PSD rule to construction of any new “major stationary source”. The specific changes and EPA analysis are discussed in more detail the proposed rule included in the docket for this action.

The EPA solicited comments on the proposed revision to Iowa's SIP, and did not receive any comments.

II. Have the requirements for approval of a SIP revision been met?

The August 12, 2020 submission met the public notice requirements for SIP submissions in accordance with 40 CFR 51.102. The State held a public comment period from March 11 to April 13, 2020, with a public hearing on April 13, 2020. No public comments were received.

The items related to electronic submittal of permit applications and emissions inventories, were placed on public notice at various dates specified above. The supporting documentation has been included in the docket. The only comment made specifically regarding the language pertaining to Iowa's electronic document receiving system was made by EPA and was resolved by EPA's approval of Iowa's electronic document receiving systems pursuant to CROMERR requirements.

The above submittals satisfy the completeness criteria of 40 CFR part 51, appendix V. In addition, these revisions meet the substantive SIP requirements of the CAA, including section 110 and implementing regulations. Finally, the revisions are also consistent with applicable EPA requirements of Title V of the CAA and 40 CFR part 70.

III. What action is the EPA taking?

The EPA is taking final action to approve revisions to the Iowa SIP and the Operating Permits Program. The revisions update the definitions of “EPA Reference Method” and “volatile organic compounds”, updates the definitions to adopt the most current EPA methods for measuring air pollutant emissions, performance testing, and continuous monitoring, and to reflect changes EPA has made to the definitions. The revisions also add regulatory cross-references, and define “electronic format,” “electronic submittal,” and “electronic submittal format” to facilitate the Department's launch of EASY Air, a new online electronic method for submitting air quality permit applications.

EPA has determined that approval of these revisions will not impact air quality and will ensure consistency between the state and federally-approved rules, and ensure Federal enforceability of the state's revised air program rules.

IV. Incorporation by Reference

In this document, the EPA is finalizing regulatory text that includes incorporation by reference. In accordance with requirements of 1 CFR 51.5, the EPA is finalizing the incorporation by reference of the Iowa Regulations described in the amendments to 40 CFR part 52 set forth below. The EPA has made, and will continue to make, these materials generally available through www.regulations.gov and at the EPA Region 7 Office (please contact the person identified in the FOR FURTHER INFORMATION CONTACT section of this preamble for more information).

Therefore, these materials have been approved by the EPA for inclusion in the State Implementation Plan, have been incorporated by reference by EPA into that plan, are fully federally enforceable under sections 110 and 113 of the CAA as of the effective date of the final rulemaking of the EPA's approval, and will be incorporated by reference in the next update to the SIP compilation.¹

¹ 62 FR 27968, May 22, 1997.

V. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of the National Technology Transfer and Advancement Act (NTTA) because this rulemaking does not involve technical standards; and

• Does not provide the EPA with the discretionary authority to address, as appropriate, disproportionate human health or environmental effects, using practicable and legally permissible methods, under Executive Order 12898 (59 FR 7629, February 16, 1994).

The SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by August 24, 2021. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects

40 CFR Part 52

Environmental protection, Air pollution control, Incorporation by reference, Reporting and recordkeeping requirements, Volatile organic compounds.

40 CFR Part 70

Environmental protection, Acid rain, Administrative practice and procedure, Air pollution control, Hazardous substances, Intergovernmental relations, Licensing and registration, Reporting and recordkeeping requirements.

Dated: June 14, 2021.
Edward H. Chu,
Acting Regional Administrator, Region 7.

For the reasons stated in the preamble, the EPA amends 40 CFR parts 52 and 70 as set forth below:

PART 52—APPROVAL AND PROMULGATION OF IMPLEMENTATION PLANS

1. The authority citation for part 52 continues to read as follows:

Authority: 42 U.S.C. 7401 et seq.

Subpart Q—Iowa

2. In § 52.820, the table in paragraph (c) is amended by revising the entries for “567-20.1”, “567-22.1”, “567-25.1”, and “567-33.3” to read as follows:

§ 52.820 Identification of plan.

* * * * *

(c) * * *

EPA-Approved Iowa Regulations
Iowa citation | Title | State effective date | EPA approval date | Explanation
Iowa Department of Natural Resources
Environmental Protection Commission [567]
Chapter 20—Scope of Title-Definitions
567-20.1 | Scope of Title—Definitions | 7/22/2020 | 6/25/2021, [insert Federal Register citation] | The definitions for “anaerobic lagoon,” “odor,” “odorous substance,” “odorous substance source” are not SIP approved.
* * * * * * *
Chapter 22—Controlling Pollution
567-22.1 | Permits Required for New or Stationary Sources | 7/22/2020 | 6/25/2021, [insert Federal Register citation]
* * * * * * *
Chapter 25—Measurement of Emissions
567-25.1 | Testing and Sampling of New and Existing Equipment | 7/22/2020 | 6/25/2021, [insert Federal Register citation]
* * * * * * *
Chapter 33—Special Regulations and Construction Permit Requirements for Major Stationary Sources-Prevention of Significant Deterioration (PSD) of Air Quality
* * * * * * *
567-33.3 | Special Construction Permit Requirements for Major Stationary Sources in Areas Designated Attainment or Unclassified (PSD) | 7/22/2020 | 6/25/2021, [insert Federal Register citation] | Provisions of the 2010 PM2.5 PSD—Increments, SILs and SMCs rule, published in the Federal Register on October 20, 2010, relating to SILs and SMCs that were affected by the January 22, 2013, U.S. Court of Appeals decision are not, at the state's request, included in Iowa's SIP provisions (see Federal Register, March 14, 2014) (Vol. 79, No. 50).
* * * * * * *

* * * * *

PART 70—STATE OPERATING PERMIT PROGRAMS

3. The authority citation for part 70 continues to read as follows:

Authority: 42 U.S.C. 7401, et seq.

4. In appendix A to part 70 the entry for “Iowa” is amended by adding paragraph (w) to read as follows:

Appendix A to Part 70—Approval Status of State and Local Operating Permits Programs

* * * * *

Iowa

* * * * *

(w) The Iowa Department of Natural Resources submitted for program approval revisions to rules 567-22.100, 567-22.120, 567-22.105(1), 567-22.106(2), and 567-22.128(4). The state effective date for 567-22.105(1) and 567-22.106(2) is April 17, 2019. The state effective date for 567-22.100, 567-22.120, and 567-22.128(4) is July 22, 2020. This revision is effective August 24, 2021.

* * * * *

[FR Doc. 2021-13456 Filed 6-24-21; 8:45 am]

BILLING CODE 6560-50-P